DEPARTMENT OF COMMERCE

International Trade Administration

[C-201-846]

Agreement Suspending the Countervailing Duty Investigation on Sugar From Mexico (as Amended); Final Results of 2017 Administrative Review

AGENCY: Enforcement & Compliance, International Trade Administration, Department of Commerce.

DATES: June 4, 2019.

SUMMARY: For the final results of this review the Department of Commerce (Commerce) continues to find that the Government of Mexico (GOM) and selected respondents Ingenio El Higo S.A. de C.V., Central El Potrero S.A. de C.V., Ingenio Melchor Ocampo S.A. de C.V., and Zucarmex S.A. de C.V. (and their affiliates) are in compliance with the Agreement Suspending the Countervailing Duty Investigation on Sugar from Mexico (CVD Agreement), as amended on June 30, 2017 (collectively, amended CVD Agreement), for the period October 1, 2017, through December 31, 2017, and that the amended CVD Agreement is meeting its statutory requirements under sections 704(c) and (d) of the Tariff Act of 1930, as amended (the Act).

FOR FURTHER INFORMATION CONTACT: Sally C. Gannon or David Cordell, Enforcement & Compliance, International Trade Administration, U.S. Department of Commerce, 1401 Constitution Avenue NW, Washington, DC 20230, telephone: (202) 482-0162 or (202) 482-0408, respectively.

SUPPLEMENTARY INFORMATION:

Background

On December 20, 2018, Commerce published its Preliminary Results of the administrative review of the amended CVD Agreement covering the period of review (POR) from October 1, 2017, through December 31, 2017.¹ No parties commented on the Preliminary Results. Commerce exercised its discretion to toll all deadlines affected by the partial Federal Government closure from December 22, 2018, through the resumption of operations on January 29, 2019.² If the new deadline falls on a non-business day, in accordance with Commerce's practice, the deadline will become the next business day. The revised deadline for the Final Results of this review is now May 29, 2019.

¹ See Agreement Suspending the Countervailing Duty Investigation on Sugar from Mexico (as Amended); Preliminary Results of 2017 Administrative Review 83 FR 65347 (December 20, 2018) (Preliminary Results).

² See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of Review

Merchandise covered by this amended CVD Agreement is typically imported under the following headings of the HTSUS: 1701.12.1000, 1701.12.5000, 1701.13.1000, 1701.13.5000, 1701.14.1000, 1701.14.5000, 1701.91.1000, 1701.91.3000, 1701.99.1010, 1701.99.1025, 1701.99.1050, 1701.99.5010, 1701.99.5025, 1701.99.5050, and 1702.90.4000. The tariff classification is provided for convenience and customs purposes; however, the written description of the scope of this amended CVD Agreement is dispositive.³

³ For a complete description of the Scope of the Suspension Agreement, see Memorandum to Gary Taverman, Deputy Assistant Secretary for Antidumping and Countervailing Duty Operations, performing the non-exclusive functions and duties of the Assistant Secretary for Enforcement and Compliance, from P. Lee Smith, Deputy Assistant Secretary for Policy and Negotiations, “Decision Memorandum for Preliminary Results of Administrative Review of the Agreement Suspending the Antidumping Duty Investigation on Sugar from Mexico,” dated December 14, 2018 (Preliminary Decision Memorandum).

Analysis

In the Preliminary Results, we determined that the GOM and selected respondents Ingenio El Higo S.A. de C.V., Central El Potrero S.A. de C.V., Ingenio Melchor Ocampo S.A. de C.V., and Zucarmex S.A. de C.V. (and their affiliates) were in compliance with the amended CVD Agreement. As no parties commented on the Preliminary Results, we are adopting the decisions in the Preliminary Decision Memorandum in these final results of review. For additional details, see the Preliminary Decision Memorandum, which is a public document and is on file electronically via Enforcement and Compliance's Antidumping and Countervailing Duty Centralized Electronic Service System (ACCESS). ACCESS is available to registered users at http://access.trade.gov and in the Central Records Unit, Room B8024 of the main Department of Commerce building. In addition, a complete version of the Preliminary Decision Memorandum can be accessed directly at http://enforcement.trade.gov/frn. The signed and the electronic versions of the Preliminary Decision Memorandum are identical in content.

Notification to Interested Parties

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these results in accordance with sections 751(a)(1) and 777(i)(1) of the Act and 19 CFR 351.213 and 19 CFR 351.221(b)(5).

Dated: May 29, 2019.
Jeffrey I. Kessler,
Assistant Secretary for Enforcement and Compliance.

[FR Doc. 2019-11601 Filed 6-3-19; 8:45 am]

BILLING CODE 3510-DS-P